DEPARTMENT OF COMMERCE

Foreign-Trade Zones Board

Order No. 1588

Expansion of Foreign-Trade Zone 231

Stockton, California, Area

Pursuant to its authority under the Foreign-Trade Zones Act of June 18, 1934, as amended (19 U.S.C. 81a-81u), the Foreign-Trade Zones Board (the Board) adopts the following Order:

WHEREAS, the Stockton Port District, grantee of Foreign-Trade Zone 231, submitted an application to the Board for authority to expand its zone to include a site within the Opus Logistics Center-Stockton (Site 8 - 468 acres) in Stockton, California, within the Sacramento Customs and Border Protection port of entry (FTZ Docket 14-2008, filed 2/25/08);

WHEREAS, notice inviting public comment was given in the Federal Register (73 FR 12949, 3/11/08) and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to expand FTZ 231 is approved, subject to the FTZ Act and the Board's regulations, including Section 400.28, subject to the Board's standard 2,000-acre activation limit for the overall general-purpose zone project, and further subject to a sunset provision that would terminate authority on November 30, 2013, if no activity has occurred under FTZ procedures before that date.

Signed at Washington, DC, this 20th day of November 2008.

David M. Spooner,
Assistant Secretary of Commerce for Import Administration,
Alternate Chairman, Foreign-Trade Zones Board,
ATTEST:
Andrew McGilvray,
Executive Secretary.

[FR Doc. E8-28859 Filed 12-4-08; 8:45 am]

BILLING CODE 3510-DS-S